DEPARTMENT OF STATE

[Public Notice 4927]

Notice of Meeting; United States International Telecommunication Advisory Committee Meeting on Preparations for the ITU Telecommunication Standardization Study Group 2 Meeting and Preparations for the CITEL Permanent Consultative Committee II Meeting in Guatemala

The Department of State announces the following meetings of the International Telecommunication Advisory Committee (ITAC) to prepare for the ITU-T Study Group 2 (Service Definitions, Numbering, Routing, and Global Mobility) meeting. This Study Group 2 meeting will be held February 16-24, 2005, in Geneva, Switzerland. In addition, five preparatory meetings of the ITAC will be held to prepare for the OAS Inter-American Telecommunication Commission (CITEL) Permanent Consultative Committee II meeting in Guatemala from April 26-19, 2005.

The ITAC will meet as follows with an agenda for preparations for the ITU-T Study Group 2 meeting on January 14 and February 2, 2005 from 9:30-12 p.m.; these meetings will be held in the Washington, DC area. People desiring to attend may find the actual location and the call-in numbers for a teleconference bridge by e-mailing the secretariat at minardje@state.gov.

The ITAC will meet as follows with an agenda for preparations for the CITEL Permanent Consultative Committee II meeting in Guatemala. These meetings will be held from 10 a.m. to 12 p.m. on January 25, February 22, March 8, March 22 and April 5, 2005 at a location to be determined in the Washington, DC area. For information on the location of these meetings, please contact Cecily Holiday at holidaycc@state.gov or Anne Jillson at jillsonad@state.gov.

Dated: December 22, 2004.
Anne Jillson,
Foreign Affairs Officer, International Communications and Information Policy, Department of State.

[FR Doc. 04-28564 Filed 12-29-04; 8:45 am]

BILLING CODE 4710-07-P